DEPARTMENT OF ENERGY

Federal Energy Regulatory Commission

[Docket Nos. EL00-95-000 and EL00-98-000]

San Diego Gas & Electric Company, Complainant; v. Sellers of Energy and Ancillary Services Into Markets Operated by the California Independent System Operator and the California Power Exchange, Respondents; Investigation of Practices of the California Independent System Operator and the California Power Exchange; Notice of Conference

June 4, 2004.

The staff of the Federal Energy Regulatory Commission is convening a conference to discuss potential settlements in the above captioned proceedings (collectively, Refund Proceeding). The conference will be held on Wednesday, June 30, 2004, at the Federal Energy Regulatory Commission, 888 First Street, NE., Washington, DC 20426, at 10 a.m. (EST).

The purpose of the conference is to encourage all interested parties to attempt to resolve these proceedings short of protracted and expensive litigation and appeals to the extent possible. In that regard, the California Parties (Southern California Edison Company, Pacific Gas and Electric Company, San Diego Gas and Electric Company, the People of the State of California, ex rel. Bill Lockyer, Attorney General, the California Department of Water Resources, the California Public Utilities Commission, and the California Electricity Oversight Board) have committed to devoting extensive time and resources by their key personnel to pursuing settlements over the next three months. Representatives from each of the California Parties will be present at the conference and the California Parties intend to present a template for settlements with each of the parties that will owe refunds in the Refund Proceeding. The Commission supports this effort and is similarly committing time and resources from its Office of Market Oversight and Investigations (OMOI) to assist in the settlement process. Accordingly, the Commission encourages all parties to attend this conference and try to achieve settlements of the Refund Proceeding. With respect to parties that are already in active settlement discussions with the California Parties, the June 30 conference is not intended to disrupt those discussions or substitute for them, and the Commission fully encourages those discussions to continue.

The conference will be governed by Rule 602 of the Commission's Rules of Practice and Procedures, 18 CFR 385.602 (2003).

For additional information concerning the conference, parties or their counsel may contact Robert Pease at robert.pease@ferc.gov or Lee Ann Watson at leeann.watson@ferc.gov.

Linda Mitry,
Acting Secretary.

[FR Doc. E4-1337 Filed 6-9-04; 8:45 am]

BILLING CODE 6717-01-P